INTERNATIONAL TRADE COMMISSION

[Investigation Nos. 731-TA-1392-1393 (Final)]

Polytetrafluoroethylene (PTFE) Resin From China and India; Scheduling of the Final Phase of Antidumping Duty Investigations

AGENCY: United States International Trade Commission.

ACTION: Notice.

DATES: September 26, 2018.

FOR FURTHER INFORMATION CONTACT: Robert Casanova (202) 708-2719, Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective March 8, 2018, the Commission established a general schedule for the conduct of the final phase of its investigations on polytetrafluoroethylene resin from China and India,¹ following a preliminary determination by the U.S. Department of Commerce (“Commerce”) that imports of subject PTFE resin were being subsidized by the government of India.² Notice of the scheduling of the final phase of the Commission's investigations and of a public hearing to be held in connection therewith was given by posting copies of the notice in the Office of the Secretary, U.S. International Trade Commission, Washington, DC, and by publishing the notice in the Federal Register of March 8, 2018 (83 FR 12815). The hearing was held in Washington, DC, on May 17, 2018, and all persons who requested the opportunity were permitted to appear in person or by counsel. The Commission subsequently issued its final negative determination regarding subsidized imports from India on July 6, 2018 (83 FR 32150, July 11, 2018). Commerce has issued final affirmative antidumping duty determinations with respect to the subject PTFE resin from China ³ and India.⁴ Accordingly, the Commission currently is issuing a supplemental schedule for its antidumping duty investigations on imports of PTFE resin from China and India.

¹ Polytetrafluoroethylene (PTFE) Resin from China and India, Scheduling of the Final Phase of Countervailing Duty and Anti-Dumping Duty Investigations, 83 FR 12815, March 8, 2018.

² Polytetrafluoroethylene Resin from India: Preliminary Affirmative Countervailing Duty Determination, 83 FR 9842, March 8, 2018. See also Commerce's later preliminary determinations: Polytetrafluoroethylene Resin from the People's Republic of China: Preliminary Affirmative Determination of Sales at Less Than Fair Value, Postponement of Final Determination, and Extension of Provisional Measures, 83 FR 20039, May 7, 2018; Polytetrafluoroethylene Resin from India: Preliminary Affirmative Determination of Sales at Less Than Fair Value, Postponement of Final Determination, and Extension of Provisional Measures, 83 FR 20035, May 7, 2018.

³ Polytetrafluoroethylene Resin from the People's Republic of China: Final Affirmative Determination of Sales at Less Than Fair Value, 83 FR 48590, September 26, 2018.

⁴ Polytetrafluoroethylene Resin from India: Final Affirmative Determination Sales at Less Than Fair Value, 83 FR 48594, September 26, 2018.

This supplemental schedule is as follows: The deadline for filing supplemental party comments on Commerce's final antidumping duty determinations is October 11, 2018. Supplemental party comments may address only Commerce's final antidumping duty determinations regarding imports of PTFE resin from China and India. These supplemental final comments may not contain new factual information and may not exceed five (5) pages in length. The supplemental staff report in the final phase of these investigations regarding subject imports from China and India will be placed in the nonpublic record on October 24, 2018; and a public version will be issued thereafter.

For further information concerning these investigations see the Commission's notice cited above and the Commission's Rules of Practice and Procedure, part 201, subparts A and B (19 CFR part 201), and part 207, subparts A and C (19 CFR part 207).

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigations must be served on all other parties to the investigations (as identified by either the public or BPI service list), and a certificate of service must be timely filed. The Secretary will not accept a document for filing without a certificate of service.

Authority: These investigations are being conducted under authority of title VII of the Tariff Act of 1930; this notice is published pursuant to section 207.21 of the Commission's rules.

By order of the Commission.
Issued: October 4, 2018.
Lisa Barton,
Secretary to the Commission.

[FR Doc. 2018-22042 Filed 10-10-18; 8:45 am]

BILLING CODE 7020-02-P